NUCLEAR REGULATORY COMMISSION

[Docket No. 50-275 LR-2 and 50-323 LR-2; ASLBP No. 24-983-02-LR-BD01]

Pacific Gas and Electric Company; Establishment of Atomic Safety and Licensing Board

Pursuant to the Commission's regulations, see, e.g., 10 CFR 2.104, 2.105, 2.300, 2.309, 2.313, 2.318, 2.321, notice is hereby given that an Atomic Safety and Licensing Board (Board) is being established to preside over the following proceeding:

Pacific Gas and Electric Company

(Diablo Canyon Nuclear Power Plant, Units 1 and 2)

This proceeding involves an application seeking a twenty-year license renewal of Facility Operating License Nos. DPR-80 and DPR-82 to authorize Pacific Gas and Electric Company to operate Diablo Canyon Nuclear Power Plant, Units 1 and 2, until, respectively, November 2, 2044, and August 26, 2045. In response to a notice published in the Federal Register announcing the opportunity to request a hearing, see 88 FR 87,817 (Dec. 19, 2023), a hearing request was submitted by email on March 4, 2024 and subsequently filed through the E-Filing System on March 5, 2024 on behalf of San Luis Obispo Mothers for Peace, Friends of the Earth, and Environmental Working Group. Additionally, the California Energy Commission filed a request to participate in the proceeding as a non-party pursuant to 10 CFR 2.315(c).

The Board is comprised of the following Administrative Judges:

Jeremy A. Mercer, Chair, Atomic Safety and Licensing Board Panel, U.S. Nuclear Regulatory Commission, Washington, DC 20555-0001.

Nicholas G. Trikouros, Atomic Safety and Licensing Board Panel, U.S. Nuclear Regulatory Commission, Washington, DC 20555-0001.

Dr. Gary S. Arnold, Atomic Safety and Licensing Board Panel, U.S. Nuclear Regulatory Commission, Washington, DC 20555-0001.

All correspondence, documents, and other materials shall be filed in accordance with the NRC E-Filing rule. See 10 CFR 2.302.

Dated: March 7, 2024.
Edward R. Hawkens,
Chief Administrative Judge, Atomic Safety and Licensing Board Panel, Rockville, Maryland.

[FR Doc. 2024-05277 Filed 3-12-24; 8:45 am]

BILLING CODE 7590-01-P